ENVIRONMENTAL PROTECTION AGENCY

[FRL-9497-7]

National Advisory Council for Environmental Policy and Technology

AGENCY: Environmental Protection Agency (EPA).

ACTION: Request for Nominations to the National Advisory Council for Environmental Policy and Technology (NACEPT).

SUMMARY: The U.S. Environmental Protection Agency (EPA) invites nominations from a diverse range of qualified candidates to be considered for appointment to the National Advisory Council for Environmental Policy and Technology (NACEPT). Vacancies are anticipated to be filled by February, 2012. Sources in addition to this Federal Register Notice may be utilized in the solicitation of nominees.

Background: NACEPT is a Federal advisory committee chartered under the Federal Advisory Committee Act (FACA), Public Law 92-463. EPA established NACEPT in 1988 to provide advice to the EPA Administrator on a broad range of environmental policy, technology and management issues. Members serve as representatives from academia, industry, non-governmental organizations, and state, local, and tribal governments. Members are appointed by the EPA Administrator for two year terms. The Council usually meets 2-3 times annually and the average workload for the members is approximately 10 to 15 hours per month. Members serve on the Council in a voluntary capacity. However, EPA provides reimbursement for travel and incidental expenses associated with official government business. EPA is seeking nominations from all sectors, including academia, industry, non-governmental organizations, and state, local and tribal governments. Nominees will be considered according to the mandates of FACA, which requires committees to maintain diversity across a broad range of constituencies, sectors, and groups. EPA values and welcomes diversity. In an effort obtain nominations of diverse candidates, EPA encourages nominations of women and men of all racial and ethnic groups.

The following criteria will be used to evaluate nominees:

—Extensive professional knowledge of environmental policy, management, and technology issues, particularly issues dealing with sustainability.

—Demonstrated ability to examine and analyze environmental issues with objectivity and integrity.

—Senior-level experience that fills a current need on the Council.

—Excellent interpersonal, oral and written communication, and consensus-building skills.

—Ability to volunteer approximately 10 to 15 hours per month to the Council's activities, including participation on teleconference meetings and preparation of text for Council reports and advice letters.

Nominations must include a resume and a short biography describing the professional and educational qualifications of the nominee, as well as the nominee's current business address, email address, and daytime telephone number. Interested candidates may self-nominate. Anyone interested in being considered for nomination is encouraged to submit their application materials as soon as possible. To help the Agency in evaluating the effectiveness of its outreach efforts, please tell us how you learned of this opportunity. Please be aware that EPA's policy is that, unless otherwise prescribed by statute, members generally are appointed to two- or three-year terms.

ADDRESSES: Submit nominations to: Mark Joyce, Acting Designated Federal Officer, Office of Federal Advisory Committee Management and Outreach, U.S. EPA (1601M), 1200 Pennsylvania Avenue NW., Washington, DC 20460. You may also email nominations with subject line COMMITTEERESUME2011 to joyce.mark@epa.gov.

FOR FURTHER INFORMATION CONTACT: Mark Joyce, Acting Designated Federal Officer, U.S. EPA; telephone (202) 564-2130; fax (202) 564-8129; email joyce.mark@epa.gov.

Dated: November 17, 2011.
Mark Joyce,
Acting Designated Federal Officer.

[FR Doc. 2011-30715 Filed 11-28-11; 8:45 am]

BILLING CODE 6560-50-P